DEPARTMENT OF VETERANS AFFAIRS

Joint Biomedical Laboratory Research and Development and Clinical Science Research and Development Services Scientific Merit Review Board, Notice of Meeting

The Department of Veterans Affairs (VA) gives notice under Federal Advisory Committee Act, 5 U.S.C. app.2, that a meeting of the Joint Biomedical Laboratory Research and Development and Clinical Science Research and Development Services Scientific Merit Review Board (JBL/CS SMRB) will be held Tuesday, July 12, 2022, via WebEx. The meeting will begin at 3 p.m. and end at 5 p.m. ET. The meeting will have an open session from 3 p.m. until 3:30 p.m. and a closed session from 3:30 p.m. until 5 p.m.

The purpose of the Board is to provide expert review of the scientific quality, budget, safety and mission-relevance of investigator-initiated research applications submitted for VA merit review consideration and to offer advice for research program officials on program priorities and policies.

The purpose of the open session is to meet with the JBL/CS Service Directors to discuss the overall policies and process for scientific review, as well as disseminate information among the Board members regarding the VA research priorities.

The purpose of the closed session is to provide recommendations on the scientific quality, budget, safety and mission relevance of investigator-initiated research applications submitted for VA merit review evaluation. Applications submitted for review include various medical specialties within the general areas of biomedical, behavioral and clinical science research. The JBL/CS SMRB meeting will be closed to the public for the review, discussion and evaluation of initial and renewal research applications, which involve reference to staff and consultant critiques of research applications. Discussions will deal with scientific merit of each application and qualifications of personnel conducting the studies, the disclosure of which would constitute a clearly unwarranted invasion of personal privacy. Additionally, premature disclosure of research information could significantly obstruct implementation of proposed agency action regarding the research applications. As provided by subsection 10(d) of Public Law 92-463, as amended by Public Law 94-409, closing the subcommittee meetings is in accordance with Title 5 U.S.C. 552b(c) (6) and (9)(B).

Members of the public who wish to attend the open JBL/CS SMRB meeting should join via WebEx. Meeting number (access code): 2761 781 4810 Meeting password: Y6dvdVWP?38. Meeting link: https://veteransaffairs.webex.com/veteransaffairs/j.php?MTID=m6e42d2696babe328d9fa457e8ff623e2.

Those who would like to obtain a copy of the minutes from the closed subcommittee meetings and rosters of the subcommittee members should contact Michael Burgio, Ph.D., Designated Federal Officer (14RD) Department of Veterans Affairs, 810 Vermont Avenue NW, Washington, DC 20420, at 202-603-4667 or at Michael.Burgio@va.gov.

Dated: April 6, 2022.
LaTonya L. Small,
Federal Advisory Committee Management Officer.

[FR Doc. 2022-07751 Filed 4-11-22; 8:45 am]

BILLING CODE 8320-01-P